DEPARTMENT OF TRANSPORTATION

Federal Aviation Administration

14 CFR Part 39

[Docket No. FAA-2015-1991; Directorate Identifier 2014-NM-251-AD; Amendment 39-18381; AD 2016-02-02]

RIN 2120-AA64

Airworthiness Directives; Airbus Airplanes

AGENCY: Federal Aviation Administration (FAA), Department of Transportation (DOT).

ACTION: Final rule.

SUMMARY: We are adopting a new airworthiness directive (AD) for all Airbus Model A318-111 and -112 airplanes; Model A319-111, -112, and -115 airplanes; Model A320-214 airplanes; and Model A321-111, -112, -211, -212, and -213 airplanes. This AD was prompted by reports of cracked cadmium-plated lock nuts that attach the hinge to the fan cowl door. This AD requires inspecting to determine the serial number of each engine fan cowl door, inspecting for cracking of the hinge lock nuts of any affected door, and replacing the lock nuts if necessary. We are issuing this AD to detect and correct cracking of the hinge lock nuts, which could result in separation of the hinge from the fan cowl door, in-flight loss of the door, and consequent damage to the airplane.

DATES: This AD becomes effective March 1, 2016.

The Director of the Federal Register approved the incorporation by reference of certain publications listed in this AD as of March 1, 2016.

ADDRESSES: You may examine the AD docket on the Internet at http://www.regulations.gov/#!docketDetail;D=FAA-2015-1991; or in person at the Docket Management Facility, U.S. Department of Transportation, Docket Operations, M-30, West Building Ground Floor, Room W12-140, 1200 New Jersey Avenue SE., Washington, DC.

For service information identified in this final rule, contact the following:

For Airbus service information contact Airbus, Airworthiness Office—EIAS, 1 Rond Point Maurice Bellonte, 31707 Blagnac Cedex, France; telephone: +33 5 61 93 36 96; fax: +33 5 61 93 44 51; email: account.airworth-eas@airbus.com; Internet http://www.airbus.com.

For Goodrich service information contact Goodrich Aerostructures, 850 Lagoon Drive, Chula Vista, California, 91910-2098; telephone: 619-691-2719; email: jan.lewis@goodrich.com; Internet: http://www.goodrich.com/TechPubs.

You may view this referenced service information at the FAA, Transport Airplane Directorate, 1601 Lind Avenue SW., Renton, WA. For information on the availability of this material at the FAA, call 425-227-1221. It is also available on the Internet at http://www.regulations.gov by searching for and locating Docket No. FAA-2015-1991.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION

Discussion

We issued a notice of proposed rulemaking (NPRM) to amend 14 CFR part 39 by adding an AD that would apply to all Airbus Model A318-111 and -112 airplanes; Model A319-111, -112, and -115 airplanes; Model A320-214 airplanes; and Model A321-111, -112, -211, -212, and -213 airplanes. The NPRM published in the Federal Register on July 2, 2015 (80 FR 38036).

The European Aviation Safety Agency (EASA), which is the Technical Agent for the Member States of the European Union, has issued EASA Airworthiness Directive 2014-0276, dated December 19, 2014 (referred to after this as the Mandatory Continuing Airworthiness Information, or “the MCAI”), to correct an unsafe condition for all Airbus Model A318-111 and -112 airplanes; Model A319-111, -112, and -115 airplanes; Model A320-214 airplanes; and Model A321-111, 112, -211, -212, and -213 airplanes. The MCAI states:

In-service findings have been reported of cracked cadmium plated lock nuts. This cracking occurs shortly after installation. Investigation results attribute the cause to an improper manufacturing procedure of the nuts. It was determined that the affected batch of lock nuts was used on the fan cowl to attach hinges to the cowl doors on CFM56-5B engines only.

This condition, if not corrected, could lead to separation of the hinge from the fan cowl door, possibly resulting in in-flight loss of a fan cowl door, with consequent damage to the aeroplane and/or injury to persons on the ground.

For the reasons describes above, this [EASA] AD required identification of the affected fan cowl doors, a one-time inspection of the fan cowl door hinge nuts and, depending on findings, replacement of the affected nuts.

You may examine the MCAI in the AD docket on the Internet at http://www.regulations.gov/#!documentDetail;D=FAA-2015-1991-0003.

Comments

We gave the public the opportunity to participate in developing this AD. We received no comments on the NPRM (80 FR 38036, July 2, 2015) or on the determination of the cost to the public.

Conclusion

We reviewed the available data and determined that air safety and the public interest require adopting this AD as proposed, except for minor editorial changes. We have determined that these minor changes:

• Are consistent with the intent that was proposed in the NPRM (80 FR 38036, July 2, 2015) for correcting the unsafe condition; and

• Do not add any additional burden upon the public than was already proposed in the NPRM (80 FR 38036, July 2, 2015).

Related Service Information under 1 CFR part 51

Airbus has issued Service Bulletin A320-71-1062, dated July 28, 2014. Goodrich Aerostructures has issued Service Bulletin RA32071-151, dated June 11, 2014. The service information describes procedures for inspection and replacement of the hinge nuts of the fan cowl door. This service information is reasonably available because the interested parties have access to it through their normal course of business or by the means identified in the ADDRESSES section.

Costs of Compliance

We estimate that this AD affects 437 airplanes of U.S. registry.

We also estimate that it takes about 2 work-hours per product to comply with the basic requirements of this AD. The average labor rate is $85 per work-hour. Required parts will cost about $0 per product. Based on these figures, we estimate the cost of this AD on U.S. operators to be $74,290, or $170 per product.

We have received no definitive data that would enable us to provide a cost estimate for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2015-1991; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-02-02 Airbus: Amendment 39-18381. Docket No. FAA-2015-1991; Directorate Identifier 2014-NM-251-AD.

(a) Effective Date

This AD becomes effective March 1, 2016.

(b) Affected ADs

None.

(c) Applicability

This AD applies to the airplanes, certificated in any category, identified in paragraphs (c)(1), (c)(2), (c)(3), and (c)(4) of this AD, all manufacturer serial numbers.

(1) Airbus Model A318-111 and -112 airplanes.

(2) Airbus Model A319-111, -112, and -115 airplanes.

(3) Airbus Model A320-214 airplanes.

(4) Airbus Model A321-111, -112, -211, -212, and -213 airplanes.

(d) Subject

Air Transport Association (ATA) of America Code 71, Powerplant.

(e) Reason

This AD was prompted by reports of cracked cadmium-plated lock nuts that attach the hinge to the fan cowl door. We are issuing this AD to detect and correct cracking of the hinge lock nuts, which could result in separation of the hinge from the fan cowl door, the in-flight loss of the door, and consequent damage to the airplane.

(f) Compliance

Comply with this AD within the compliance times specified, unless already done.

(g) Inspect to Determine Serial Number

Within 24 months after the effective date of this AD: Inspect to determine if any fan cowl door has a serial number 10029001 through 11092003 inclusive, in accordance with the Accomplishment Instructions of Airbus Service Bulletin A320-71-1062, dated July 28, 2014; or Goodrich Aerostructures Service Bulletin RA32071-151, dated June 11, 2014. A review of airplane maintenance records is acceptable in lieu of the inspection required by this paragraph, provided those records can be relied upon for that purpose and the serial number can be positively identified by that review.

(h) Inspection and Replacement

For any fan cowl door having any serial number identified in paragraph (g) of this AD: Within 24 months after the effective date of this AD, do a detailed inspection for cracking of the hinge lock nuts of the door, in accordance with the Accomplishment Instructions of Airbus Service Bulletin A320-71-1062, dated July 28, 2014; or Goodrich Aerostructures Service Bulletin RA32071-151, dated June 11, 2014. If any crack is found, before further flight, replace each cracked hinge lock nut, in accordance with the Accomplishment Instructions of Airbus Service Bulletin A320-71-1062, dated July 28, 2014; or Goodrich Aerostructures Service Bulletin RA32071-151, dated June 11, 2014.

(i) Special Flight Permits

Special flight permits, as described in Section 21.197 and Section 21.199 of the Federal Aviation Regulations (14 CFR 21.197 and 21.199), are not allowed.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone: 425-227-1405; fax: 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(k) Related Information

Refer to Mandatory Continuing Airworthiness Information (MCAI) EASA Airworthiness Directive 2014-0276, dated December 19, 2014, for related information. This MCAI may be found in the AD docket on the Internet at http://www.regulations.gov/#!documentDetail;D=FAA-2015-1991-0003.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-71-1062, dated July 28, 2014.

(ii) Goodrich Aerostructures Service Bulletin RA32071-151, dated June 11, 2014.

(3) For Airbus service information identified in this AD, contact Airbus, Airworthiness Office—EIAS, 1 Rond Point Maurice Bellonte, 31707 Blagnac Cedex, France; telephone: +33 5 61 93 36 96; fax: +33 5 61 93 44 51; email: account.airworth-eas@airbus.com; Internet http://www.airbus.com.

(4) For Goodrich service information identified in this AD, contact Goodrich Aerostructures, 850 Lagoon Drive, Chula Vista, California, 91910-2098; telephone: 619-691-2719; email: jan.lewis@goodrich.com; Internet: http://www.goodrich.com/TechPubs.

(5) You may view this service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on January 9, 2016.
Michael Kaszycki,
Acting Manager, Transport Airplane Directorate, Aircraft Certification Service.

[FR Doc. 2016-00952 Filed 1-25-16; 8:45 am]

BILLING CODE 4910-13-P